DEPARTMENT OF AGRICULTURE

Food and Nutrition Service

Agency Information Collection Activities: Extension of Proposed Collection; Comment Request—Food Stamp Forms: Applications, Periodic Reporting, Notices

AGENCY: Food and Nutrition Service, USDA.

ACTION: Notice.

SUMMARY: In accordance with the Paperwork Reduction Act of 1995, this notice invites the general public and other public agencies to comment on the proposed extension of this collection. The information collection requirement described in this notice is OMB Number 0584-0064: Application and Certification of Food Stamp Households.

DATES: Written comments must be received on or before August 21, 2007.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; and (d) ways to minimize the burden of the collection of information on those who respond, including the use of appropriate automated, electronic, mechanical, or other technological collection techniques or other forms of information technology.

Comments may be sent to Patrick Waldron, Branch Chief, Certification Policy Branch, Program Development Division, Food and Nutrition Service, U.S. Department of Agriculture, 3101 Park Center Drive, Alexandria, VA 22302. Comments may also be submitted via fax to the attention of Mr. Waldron at (703) 305-2486 or via e-mail at patrick.waldron@FNS.USDA.GOV. All written comments will be open for public inspection at the office of the Food and Nutrition Service during regular business hours (8:30 a.m. to 5 p.m., Monday through Friday) at 3101 Park Center Drive, Alexandria, Virginia, 22302, Room 800.

All responses to this notice will be summarized and included in the request for OMB approval. All comments will be a matter of public record.

FOR FURTHER INFORMATION CONTACT: Requests for additional information should be directed to Mr. Waldron at (703) 305-2495.

SUPPLEMENTARY INFORMATION: Title: Food Stamp Forms: Applications, Periodic Reporting, Notices.

OMB Number: 0584-0064.

Form Number: None.

Expiration Date: 7/31/07.

Type of Request: Extension of a currently approved information collection.

Abstract: Title 7, Part 273 of the Code of Federal Regulations (CFR) sets forth the Food Stamp Program requirements for the application, certification and continued eligibility for food stamp benefits.

Listed below are the components of the forms and requirements included in the information collection.

Application to participate in the Food Stamp Program. The application is filed by all applicant households when first applying to participate in the program and is used by the State agencies that administer the program to determine household eligibility. Based on FY 2006 data, we estimate that the burden associated with the application for certification at 3,473,171 hours for households (10,967,909 applications × 19 minutes (0.32 hrs) to complete the application). We estimate the burden for State agencies at 3,473,171 hours (10,967,909 applications × 19 minutes (0.32 hrs) to review the application).

Application for Recertification. All food stamp households are assigned finite certification periods. In order to continue participating in the Food Stamp Program, ongoing households must apply for recertification using an application, which is very similar to the above-mentioned application for initial certification. The average certification period is 10 months in length although the length of the certification period may range from 1-month to 24-months depending on household circumstances. Based on FY 2006 data, we estimate that the burden associated with the application for recertification at 3,205,217 hours for households (10,121,739 applications × 19 minutes (0.32 hrs) to complete the application). We estimate the burden for State agencies at 3,205,217 hours (10,121,739 applications × 19 minutes (0.32 hrs) to review the application).

Monthly Report. Three State agencies require a portion of their caseload to report changes in household circumstances through monthly reports. Because the household does not submit a separate monthly report when it submits the application for recertification, households are required to submit monthly reports 11 times a year. We estimate a total annual household reporting burden of 182,883 hours for the monthly report (142,506 households × 11 reports per year × 7 minutes or 0.12 hrs per report). We estimate a State agency burden of 287,387 hours (142,506 households × 11 reports per year × 11 minutes or 0.18 hrs per report).

Quarterly Report. Currently, only one State, California, requires households to report changes in circumstances on a quarterly basis. Since households are not required to submit a separate quarterly report when they submit an application for recertification, the report is submitted three times a year. We estimate a household reporting burden of 319,787 hours for the quarterly report (799,469 households × 3 reports per year × 8 minutes or 0.13 hrs per report). We estimate a State agency burden of 479,681 hours (799,469 households × 3 reports per year × 12 minutes or 0.2 hrs per report).

Semiannual or Simplified Reporting. Under the simplified reporting option, adopted by 47 States, most households report changes in their circumstances through a report that they normally submit every six months. In addition to the semiannual report, a household in a simplified reporting system must report when its gross income exceeds 130 percent of the poverty threshold. Based on recent information regarding State choices, we estimate that 10,788,683 households are currently subject to simplified reporting. Under simplified reporting, households submit one report annually (these households submit an application for recertification at least once every 12 months), and we estimate a household burden of 1,438,491 hours (10,788,683 reports × 8 minutes or .133 hrs per report) and a State agency burden of 1.977,925 hours (10,788,683 reports × 11 minutes or .18 hrs per report).

Change Reporting. Households not subject to monthly, quarterly reporting or semiannual reporting must report most changes in household circumstances with 10 days of the date that the change becomes known to the household. Most households subject to change reporting are statutorily exempt from periodic reporting, primarily are those households with no earned income in which all adult members are elderly or disabled. We estimate a total household burden for change reporting at 138,737 hours per year (1,664,843 households submitting an average of 1 report per year at 5 minutes or 0.08 hrs per report). We estimate the annual State agency burden to process the reports at 305,221 hours (1,664,843 households submitting an average of 1 report per year with an agency processing time of 11 minutes or 0.18 hrs per report).

Notice of Eligibility or Denial. Based on an estimated 21,089,658 notices issued annually, we estimate a total State agency burden of 632,690 hours based on 2 minutes (.03 hrs) to generate each report.

We estimate a total annual burden of 367,412 hours to issue the following notices: Notice of Late/Incomplete Report, Adequate Notice (notice of reduction or termination based on information reported by the household), Notice of Adverse Action, Notice of Expiration of Certification, Request for Contact, and Notice of Missed Interview. The total is based on total of 3,365,104 responses with an average burden of 3 minutes or .03 hrs per response for the first five notices and 953,915 responses with an average burden of 1 minute or 0.167 hrs for the Notice of Missed Interview.

Recordkeeping burden only. Local agencies are required to maintain client case records for three years and to perform duplicate participation checks on individual household members to ensure the member is not participating in more than one household. Data are not available on the actual number of local food stamp offices in each State or the actual number of workers (recordkeepers) that would be maintaining case files and performing duplicate participation checks. For the purpose of this burden package, we are using the number of food stamp project areas, which equals 2,724.

(A) Case Files: The caseload to be maintained is equal to the number of participating households and their subsequent files. The number of times recordkeepers must access these case files is equal to the number of documents expected to be filed or noted in the file annually. We anticipate minimal filing to involve a burden of 2 minutes per document. Including documentation (i.e. electronic files, caseworker written entry into the file, or hard copies of the document) for notices which were sent to the household and when, we anticipate a total of 127,192,305 documents/year. Annual recordkeeping burden associated with creating, filing, and maintaining household case files is estimated to be 4,239,744 burden hours (127,192,305 × 2/60 = 4,239,744).

(B) Monitoring Duplicate Participation: The estimated annual recordkeeping burden for maintaining this system that is automated by most States is based on the number of total applications (all approved and denied initial and recertification applications) expected to be received (20,250,469) and the average number of persons (2.3) in each applicant household. We estimate the number of duplicate participation checks (responses) that must be performed by State agencies at 46,576,079. Burden is estimated to be 15 seconds (or 0.00416666 hour) per response, for a total burden of 194,067 burden hours annually (20,250,469 × 2.3 × 15 seconds or 0.00416666 hrs).

(C) Total recordkeeping burden would be 4,433,811 hours. Burden per recordkeeper would be 1,627 hours.

Summary of burden hours for public—state and local governments, potential applicants, and current participants:

Number of Respondents: 21,089,698.

Annual responses: 110,196,575.

Total burden hours: 24,017,997.

Dated: June 19, 2007.
Roberto Salazar,
Administrator, Food and Nutrition Service.

[FR Doc. 07-3099 Filed 6-20-07; 12:06 pm]

BILLING CODE 3410-30-P